DEPARTMENT OF COMMERCE

International Trade Administration

[A-588-604 and A-588-054]

Tapered Roller Bearings and Parts Thereof, Finished and Unfinished, From Japan; and Tapered Roller Bearings, Four Inches or Less in Outside Diameter, and Components Thereof, From Japan: Amended Final Results of Antidumping Duty Administrative Reviews Pursuant to Final Court Decision

AGENCY: Import Administration, International Trade Administration, Department of Commerce.

ACTION: Notice of final court decision and amended final results of antidumping duty administrative reviews.

SUMMARY: On August 12, 2002, the United States Court of International Trade (CIT) affirmed the Department of Commerce's (the Department's) redetermination on remand of the final results of the October 1, 1995 through September 30, 1996 administrative review of the antidumping duty order on tapered roller bearings (TRBs) and parts thereof, finished and unfinished, from Japan and the antidumping finding on TRBs, four inches or less in outside diameter, and components thereof, from Japan. See NTN Bearing Corp. et al v. United States, Consol. Court No. 98-01-00146, Slip Op. 02-88 (CIT August 12, 2002) (NTN II). Subsequent to the CIT's decision in NTN II, two respondents, NTN Corporation (NTN) and NSK Ltd. (NSK), appealed to the Court of Appeals for the Federal Circuit (Federal Circuit); the petitioner, The Timken Company (Timken), cross-appealed to the Federal Circuit. On May 21, 2004, the Federal Circuit affirmed the CIT's decision in NTN II. See NTN Bearing Corp. et al v. United States, 03-1041, -1048, -1072 (Fed. Cir. May 21, 2004) (NTN CAFC). Because all litigation has concluded, the Department is now issuing these amended final results reflecting the CIT's decision.

EFFECTIVE DATE: June 22, 2004.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue, NW., Washington, DC 20230.

SUPPLEMENTARY INFORMATION:

Background

On January 15, 1998, the Department published the final results of its administrative reviews of the antidumping duty order on TRBs and parts thereof, finished and unfinished, from Japan (A-588-604) and the antidumping finding on TRBs, four inches or less in outside diameter, and components thereof, from Japan (A-588-054) for the period October 1, 1995 through September 30, 1996. See Tapered Roller Bearings and Parts Thereof, Finished and Unfinished, From Japan; and Tapered Roller Bearings, Four Inches or Less in Outside Diameter, and Components Thereof, From Japan; Final Results of Antidumping Duty Administrative Reviews, 63 FR 2558 (January 15, 1998), as amended, Tapered Roller Bearings and Parts Thereof, Finished and Unfinished, From Japan, and Tapered Roller Bearings, Four Inches or Less in Outside Diameter, and Components Thereof, From Japan; Amended Final Results of Antidumping Duty Administrative Reviews, 63 FR 13391 (March 19, 1998) (1995-96 TRBs from Japan Final Results). Respondents NTN, NSK, and Koyo Seiko Co., Ltd. (Koyo) and petitioner Timken filed lawsuits challenging these results. On January 24, 2002, the CIT issued an Order and Opinion remanding two issues to the Department. See NTN Bearing Corp. et al v. United States, 186 F. Supp. 2d 1257 (CIT January 24, 2002) (NTN I). Specifically, the CIT ordered the Department to (1) annul all findings and conclusions made pursuant to the duty-absorption inquiry conducted for the subject reviews; and (2) exclude any transactions that were not supported by consideration from NTN's United States sales database and to adjust the dumping margin accordingly. See NTN I, 186 F. Supp. 2d 1257. In accordance with the CIT's order in NTN I, the Department filed its remand results on June 24, 2002. On August 12, 2002, the CIT affirmed the Department's final results of remand redetermination in their entirety. See NTN II. Subsequently, NTN and NSK appealed the CIT's decision in NTN II to the Federal Circuit, and Timken cross-appealed the CIT's decision to the Federal Circuit. On May 21, 2004, the Federal Circuit concluded that the Department's final results of remand redetermination were supported by substantial evidence and were not erroneous as a matter of law, and affirmed the CIT's decision. See NTN CAFC. Because all litigation has concluded, we are amending our final results of review in this matter and we will instruct U.S. Customs and Border Protection (CBP) to liquidate entries, as appropriate, in accordance with our remand results.

Amendment to Final Results

Pursuant to section 516A(e) of the Tariff Act of 1930, as amended, as there is now a final and conclusive court decision, we are now amending the 1995-96 TRBs from Japan Final Results to reflect the revised weighted-average margin for NTN.¹ We determine that the following weighted-average margins exist for NTN and NSK for the period October 1, 1995 through September 30, 1996 for the A-588-604 antidumping duty order on TRBs from Japan and the A-588-054 antidumping finding on TRBs from Japan:

¹ NTN was not subject to the antidumping finding (A-588-054) on TRBs from Japan. Therefore, the CIT's order to exclude any transactions that were not supported by consideration from NTN's United States sales database and to adjust the dumping margin accordingly affected only the calculation of the NTN's margin for the antidumping duty order (A-588-604) on TRBs from Japan.

Producer/exporter | Period of review | Weighted-average margin (%): Original: | Weighted-average margin (%): Revised:
A-588-604
NTN | 10/1/1995—9/30/1996 | 21.41 | 21.48
NSK | 10/1/1995—9/30/1996 | 10.17 | n/a
A-588-054
NSK | 10/1/1995—9/30/1996 | 1.64 | n/a

Accordingly, the Department has determined and CBP will assess appropriate antidumping duties on the relevant entries of the subject merchandise from NTN and NSK covered by the reviews of the period listed above. The Department will issue assessment instructions directly to CBP within 15 days of publication of this notice.

Dated: June 8, 2004.
James J. Jochum,
Assistant Secretary for Import Administration.

[FR Doc. 04-13988 Filed 6-21-04; 8:45 am]

BILLING CODE 3510-DS-P